DEPARTMENT OF HOMELAND SECURITY

[Docket No. DHS-2022-0055]

Faith-Based Security Advisory Council

AGENCY: Office of Partnership and Engagement (OPE), Department of Homeland Security (DHS).

ACTION: Notice of Partially Closed Federal Advisory Committee meeting.

SUMMARY: The Faith-Based Security Advisory Council (FBSAC) will meet virtually via teleconference on Tuesday, November 29, 2022. The meeting will be partially closed to the public.

DATES: The meeting will take place from 10 a.m. EST to 10:45 a.m. EST on Tuesday, November 29, 2022. The meeting will be closed to the public from 10:15 a.m. to 10:45 a.m. The meeting will be open to the public from 10 a.m. to 10:15 a.m. Please note that the meeting may end early if the Council has completed its business.

ADDRESSES: The FBSAC meeting will be held via teleconference. The public may register to participate in the open session of this meeting via teleconference through the following procedures. Each person must provide their full legal name and email address no later than 5 p.m. EST on Friday, November 25, 2022 to the individual listed in the FOR FURTHER INFORMATION CONTACT section. The conference call details will be provided to interested members of the public after the public registration period closes and prior to the start of the meeting. The FBSAC is committed to ensuring all participants have equal access regardless of disability status. If you require reasonable accommodation due to a disability to fully participate, please contact the individual listed in the FOR FURTHER INFORMATION CONTACT section as soon as possible.

At all times during the meeting, the public will be in listen-only mode.

Written comments can be submitted from November 15, 2022 to November 30, 2022. Comments must be identified by Docket No. DHS-2022-0055 and may be submitted by one of the following methods:

• Federal eRulemaking Portal: http://www.regulations.gov. Follow the instructions for submitting comments.

• Email: FBSAC@hq.dhs.gov. Include Docket No. DHS-2022-0055 in the subject line of the message.

• Mail: Michael J. Miron, Committee Management Officer, Office of Partnership and Engagement, Mailstop 0385, Department of Homeland Security, 2707 Martin Luther King, Jr. Ave. SE, Washington, DC 20528.

Instructions: All submissions received must include the words “Department of Homeland Security” and “DHS-2022-0055,” the docket number for this action. Comments received will be posted without alteration at http://www.regulations.gov, including any personal information provided. You may wish to review the Privacy and Security Notice found via a link on the homepage of http://www.regulations.gov.

Docket: For access to the docket to read comments received by the Council, go to http://www.regulations.gov, search “DHS-2022-0055,” “Open Docket Folder” and provide your comments.

FOR FURTHER INFORMATION CONTACT: Michael Miron at 202-891-2876 or FBSAC@hq.dhs.gov.

SUPPLEMENTARY INFORMATION: Notice of this meeting is given under Section 10(a) of the Federal Advisory Committee Act (FACA), Public Law 92-463 (5 U.S.C. Appendix), which requires a portion of each FACA committee meeting to be open to the public unless the President, or the head of the agency to which the advisory committee reports, determines that a portion of the meeting may be closed to the public in accordance with 5 U.S.C. 552b(c). Due to the technical reasons, the department was unable to provide the customary 15-day notice of the meeting.

The FBSAC provides organizationally independent, strategic, timely, specific, and actionable advice to the Secretary through the OPE Assistant Secretary, who serves as the DHS Faith-Based Organizations Security Coordinator on security and preparedness matters related to places of worship, faith communities, and faith-based organizations.

The Council will meet in an open session between 10 a.m. to 10:15 a.m. EST. During the open session, the Council will receive new taskings.

The Council will meet in a closed session from 10:15 a.m. to 10:45 a.m. EST to participate in a sensitive discussion with DHS Senior Leadership regarding DHS operations. Basis for Partial Closure: In accordance with Section 10(d) of FACA, the Secretary of Homeland Security has determined this meeting must be closed during this session as the disclosure of information relayed would be detrimental to the public interest for the following reasons: The Council will participate in a sensitive operational discussion containing For Official Use Only and Law Enforcement Sensitive information. This discussion will include information regarding threats facing the United States and how DHS plans to address those threats. The session is closed pursuant to 5 U.S.C. 552b(c)(9)(B) because the disclosure of this information could significantly frustrate implementation of proposed agency actions.

Dated: November 9, 2022.
Michael J. Miron,
Committee Management Officer, Department of Homeland Security.

[FR Doc. 2022-24873 Filed 11-15-22; 8:45 am]

BILLING CODE 9112-FN-P